FEDERAL COMMUNICATIONS COMMISSION

47 CFR Part 73

[DA No. 00-1898; MM Docket No. 99-299; RM-9687 & RM-9813]

Radio Broadcasting Services; Osceola, Sedalia & Wheatland, MO

AGENCY: Federal Communications Commission.

ACTION: Final rule.

SUMMARY: In response to a proposal filed by The Clair Group, we will substitute Channel 262A for Channel 222A at Osceola, MO and modify the license for Station KCVJ and substitute Channel 222A for Channel 221A at Sedalia, MO and modify the license for Station KSDL. See 64 FR 56723, October 21, 1999. The coordinates for Channel 262A, Osceola, are 38-03-09 and 93-35-16. The coordinates for Channel 222A, Sedalia, are 38-43-52 and 93-13-32. In response to a counterproposal filed by Bott Communications, Inc. we will allot Channel 226A to Wheatland, Missouri, at coordinates 37-55-00 and 93-14-30. There is a site restriction 14.3 kilometeres (8.9 miles) east of the community. A filing window for Channel 226A at Wheatland will not be opened at this time. Instead, the issue of opening a filing window for this channel will be addressed by the Commission in a subsequent order.

DATES: Effective October 2, 2000.

ADDRESSES: Federal Communications Commission, Washington, DC 20554.

FOR FURTHER INFORMATION CONTACT: Kathleen Scheuerle, Mass Media Bureau, (202) 418-2180

SUPPLEMENTARY INFORMATION: This is a summary of the Commission's Report and Order, MM Docket No. 99-299, adopted August 9, 2000, and released August 18, 2000. The full text of this Commission decision is available for inspection and copying during normal business hours in the Commission's Reference Center, 445 12th Street, SW, Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Missouri, is amended by removing Channel 222A and adding Channel 262A at Osceola, by removing Channel 221A and adding Channel 222A at Sedalia and by adding Wheatland, Channel 226A.

Federal Communications Commission.
John A. Karousos,
Chief, Allocations Branch, Policy and Rules Division, Mass Media Bureau.

[FR Doc. 00-22560 Filed 9-1-00; 8:45 am]

BILLING CODE 6712-01-P